DEPARTMENT OF HEALTH AND HUMAN SERVICES

Centers for Disease Control and Prevention

Notice of Award of a Single-Source Cooperative Agreement To Fund the Gambella Regional Health Bureau of Ethiopia

AGENCY: Centers for Disease Control and Prevention (CDC), Department of Health and Human Services (HHS).

ACTION: Notice.

SUMMARY: The Centers for Disease Control and Prevention (CDC), within the Department of Health and Human Services (HHS), announces the award of approximately $8,000,000, for Year 1 funding to the Gambella Regional Health Bureau (GRHB). The award will improve the capacity of HIV program management and quality of health services to attain epidemic control in the Gambella Regional State of Ethiopia.

DATES: The period for this award will be September 30, 2023, through September 29, 2028. Funding amounts for years 2-5 will be set at continuation.

FOR FURTHER INFORMATION CONTACT: Matthew Brown, Center for Global Health, Centers for Disease Control and Prevention, U.S. Embassy, P.O. Box 1014, Addis Ababa, Ethiopia, Telephone: 404-806-9619, E-Mail: zjc5@cdc.gov.

SUPPLEMENTARY INFORMATION: The single-source award will support the delivery of comprehensive HIV prevention, care and treatment activities in the Gambella region of Ethiopia.

The Gambella Regional Health Bureau (GRHB) is in a unique position to conduct this work, as it is the only government entity with a legal authority and mandate to plan, manage, administer, and coordinate all health-related activities in Gambella.

Summary of the Award

Recipient: Gambella Regional Health Bureau (GRHB) of Ethiopia.

Purpose of the Award: The purpose of this award is to improve the capacity of HIV program management and quality of health services to attain epidemic control in the Gambella Regional State of Ethiopia.

Amount of Award: The approximate year 1 funding amount will be $8,000,000 in Federal Fiscal Year (FFY) 2023 funds, subject to the availability of funds. Funding amounts for years 2-5 will be set at continuation.

Period of Performance: September 30,2023 through September 29, 2028.

Authority: This program is authorized under Public Law 108-25 (the United States Leadership Against HIV AIDS, Tuberculosis and Malaria Act of 2003).

Dated: March 16, 2023.
Terrance Perry,
Chief Grants Management Officer, Centers for Disease Control and Prevention.

[FR Doc. 2023-05824 Filed 3-21-23; 8:45 am]

BILLING CODE 4163-18-P